DEPARTMENT OF COMMERCE

National Oceanic and Atmospheric Administration

[I.D. 080105A]

Fisheries of the Caribbean, Gulf of Mexico, and South Atlantic; Snapper-Grouper Fishery off the Southern Atlantic States and Coral and Coral Reefs Fishery in the South Atlantic; Exempted Fishing Permit

AGENCY: National Marine Fisheries Service (NMFS), National Oceanic and Atmospheric Administration (NOAA), Commerce.

ACTION: Notice; receipt of exempted fishing permit application; request for comments.

SUMMARY: NMFS has determined that an Exempted Fishing Permit (EFP)is required for the proposed activities described by Paul Rudershausen of North Carolina State University on behalf of Alex Ng and Anthony Ng, commercial fishermen who have made arrangements for cooperative research with North Carolina State University. The application was originally received as a request for a Letter of Acknowledgment (LOA). NMFS is considering issuance of an EFP. If granted, the EFP would authorize the applicant, with certain conditions, to collect up to 900 of each of the following species over the permit's effective period: red grouper, gag, red porgy, scamp, vermilion snapper, black sea bass, snowy grouper, and blueline tilefish. Specimens would be collected from Federal waters off the coast of North Carolina in Onslow Bay from September 1, 2005, through December 31, 2006.

DATES: Comments must be received no later than 5 p.m., eastern time, on August 22, 2005.

ADDRESSES: Comments on the application may be sent via fax to 727-824-5308 or mailed to: Julie Weeder, Southeast Regional Office, NMFS, 263 13th Avenue South, St. Petersburg, FL 33701. Comments may be submitted by e-mail to: ncstate.reeffish@noaa.gov. Include in the subject line of the e-mail document the following text: Comment on NC State EFP Application. The application and related documents are available for review upon written request to the NMFS address above or to julie.weeder@noaa.gov.

FOR FURTHER INFORMATION CONTACT: Julie Weeder, 727-824-5305; fax: 727-824-5308; e-mail: julie.weeder@noaa.gov.

SUPPLEMENTARY INFORMATION: The Regional Administrator issues EFPs under the authority of the Magnuson-Stevens Fishery Conservation and Management Act (16 U.S.C. 1801 et seq.), and regulations at 50 CFR 600.745(b) concerning exempted fishing.

The proposed collection involves activities otherwise prohibited by regulations implementing the Fishery Management Plan (FMP) for the Snapper-Grouper Fishery of the South Atlantic Region. The applicants would be allowed to retain fish smaller than the minimum size limit and those collected during closed seasons, and would not be bound by applicable trip limits. Specimens would be collected using vertical hook and line and electric reels.

The applicants need the fish described above for use in age and growth studies of reef fishes being carried out by NMFS scientists. Such studies require sub-legal specimens and those caught out of season to give the most complete estimate of reef fish status.

NMFS finds that this application warrants further consideration, based on a preliminary review, and intends to issue an EFP. Possible conditions the agency may impose on this permit, if it is indeed granted, include but are not limited to: Reduction in the number of specimens of any or all species to be collected; restrictions on the size of fish to be collected; prohibition of the harvest of any fish with visible external tags; and specification of locations, dates, and/or seasons allowed for collection of any or all species. A final decision on issuance of the EFP will depend on a NMFS review of public comments received on the application, conclusions of environmental analyses conducted pursuant to the National Environmental Policy Act, and consultations with North Carolina, the South Atlantic Fishery Management Council, and the U.S. Coast Guard.

Authority: 16 U.S.C. 1801 et seq.

Dated: August 1, 2005.
Alan D. Risenhoover
Acting Director, Office of Sustainable Fisheries, National Marine Fisheries Service.

[FR Doc. E5-4193 Filed 8-4-05; 8:45 am]

BILLING CODE 3510-22-S